DEPARTMENT OF COMMERCE

International Trade Administration

[A-122-838]

Certain Softwood Lumber Products From Canada: Notice of Rescission of Antidumping Duty New Shipper Review

AGENCY: Import Administration, International Trade Administration, Department of Commerce.

ACTION: Notice of rescission of antidumping duty new shipper review.

EFFECTIVE DATE: February 27, 2003.

SUMMARY: On January 8, 2003, the Department of Commerce (the Department) published in the Federal Register (68 FR 1030) a notice announcing the initiation of a new shipper review of the antidumping duty order on certain softwood lumber products from Canada, covering the period May 22, 2002, through October 31, 2002. The review covers Sciere La Pointe & Roy Ltee (La Pointe & Roy). We are now rescinding this review as a result of La Pointe & Roy's withdrawal of its request for a new shipper review.

FOR FURTHER INFORMATION CONTACT: Vicki Schepker or Keith Nickerson, at (202) 482-1756 or (202) 482-3813, respectively, AD/CVD Enforcement Office V, Group II, Import Administration, International Trade Administration, U.S. Department of Commerce, 14th Street & Constitution Avenue, NW., Washington, DC 20230.

SUPPLEMENTARY INFORMATION:

Background

In accordance with 19 CFR 351.214(c) (April 2002), on November 26, 2002, La Pointe & Roy requested a new shipper review of the antidumping duty order on certain softwood lumber products from Canada. On December 31, 2002, in accordance with section 751(a)(2)(B)(ii) of the Tariff Act of 1930, as amended (the Act), and 19 CFR 351.214(d)(1), we initiated a new shipper review of this order for the period May 22, 2002, through October 31, 2002 (68 FR 1030). La Pointe & Roy withdrew its request for a new shipper review on January 31, 2003.

Rescission of New Shipper Review

The Department's regulations at 19 CFR 351.214(f)(1) provide that the Department will rescind a new shipper review if the party that requested the review withdraws its request for review within 60 days of the date of publication of the notice of initiation of the requested review. La Pointe & Roy withdrew its request within the 60-day period. Accordingly, we are rescinding this review.

Notification

Bonding is no longer permitted to fulfill security requirements for shipments of certain softwood lumber products from Canada produced and exported by La Pointe & Roy, entered, or withdrawn from warehouse, for consumption in the United States on or after the publication of this rescission notice in the Federal Register.

This notice also serves as the only reminder to parties subject to administrative protective order (APO) of their responsibility concerning the disposition of proprietary information disclosed under APO in accordance with 19 CFR 351.305(a)(3). Timely written notification of the return/destruction of APO material or conversion to judicial protective order is hereby requested. Failure to comply with the regulations and terms of an APO is a violation which is subject to sanctions.

This notice is issued and published in accordance with sections 751(a)(2)(B)(iv) and 777(i) of the Act and 19 CFR 351.214(f)(3).

Dated: February 19, 2003.
Faryar Shirzad,
Assistant Secretary for Import Administration.

[FR Doc. 03-4583 Filed 2-26-03; 8:45 am]

BILLING CODE 3510-DS-P